DEPARTMENT OF COMMERCE

International Trade Administration

[C-489-817]

Oil Country Tubular Goods From the Republic of Turkey: Final Results and Partial Rescission of Countervailing Duty Administrative Review; 2018

AGENCY: Enforcement and Compliance, International Trade Administration, Department of Commerce.

SUMMARY: The Department of Commerce (Commerce) determines that Borusan Mannesmann Boru Sanayi ve Ticaret A.S. (Borusan), exporter/producer of oil country tubular goods (OCTG) from the Republic of Turkey (Turkey), received de minimis net countervailable subsidies during the period of review (POR), January 1, 2018, through December 31, 2018. Commerce is also rescinding this review with respect to five non-selected companies for which the customs data show no reviewable entries during the POR.

DATES: Applicable May 10, 2021.

FOR FURTHER INFORMATION CONTACT: Dusten Hom, AD/CVD Operations, Office I, Enforcement and Compliance, International Trade Administration, U.S. Department of Commerce, 1401 Constitution Avenue NW, Washington, DC 20230; telephone: (202) 482-5075.

SUPPLEMENTAL INFORMATION:

Background

On January 26, 2021, Commerce published the Preliminary Results of this administrative review.¹ We invited parties to comment on the Preliminary Results. No interested party submitted comments. Borusan requested to participate in a hearing with Commerce, but because no party submitted comments, Commerce did not hold a hearing.² Commerce conducted this review in accordance with section 751(a)(1)(A) of the Tariff Act of 1930, as amended (the Act).

¹ See Oil Country Tubular Goods from the Republic of Turkey: Preliminary Results of Countervailing Duty Administrative Review, Rescission in Part, and Intent to Rescind in Part; 2018, 86 FR 7069 (January 26, 2021) (Preliminary Results), and accompanying Preliminary Decision Memorandum (PDM).

² See Borusan's Letter, “Oil Country Tubular Goods from Turkey, Case No. C-489-817; BMB's Request to Participate in Hearing,” dated February 25, 2021; see also 19 CFR 351.310 (c) (“At the hearing, an interested party may make an affirmative presentation only on arguments included in that party's case brief and may make a rebuttal presentation only on arguments included in that party's rebuttal brief”).

Scope of the Order 3

³ See Certain Oil Country Tubular Goods from India and the Republic of Turkey: Countervailing Duty Orders and Amended Affirmative Final Countervailing Duty Determination for India, 79 FR 53688 (September 10, 2014) (Order).

The merchandise covered by the Order is certain OCTG from Turkey. For a complete description of the scope, see the Preliminary Decision Memorandum accompanying the Preliminary Results.⁴

⁴ See Preliminary Results PDM.

Changes Since the Preliminary Results

As no party submitted comments on the Preliminary Results, we made no changes in the final results of this review.

Partial Rescission of Administrative Review

It is Commerce's practice to rescind an administrative review of a countervailing duty order, pursuant to 19 CFR 351.213(d)(3), when there are no reviewable entries of subject merchandise during the POR for which liquidation is suspended.⁵ Normally, upon completion of an administrative review, the suspended entries are liquidated at the countervailing duty assessment rate calculated for the review period.⁶ Therefore, for an administrative review of a company to be conducted, there must be a reviewable, suspended entry that Commerce can instruct U.S. Customs and Border Protection (CBP) to liquidate at the calculated countervailing duty assessment rate calculated for the review period.⁷

⁵ See, e.g., Lightweight Thermal Paper from the People's Republic of China: Notice of Rescission of Countervailing Duty Administrative Review; 2015, 82 FR 14349 (March 20, 2017); see also Circular Welded Carbon Quality Steel Pipe from the People's Republic of China: Rescission of Countervailing Duty Administrative Review; 2017, 84 FR 14650 (April 11, 2019).

⁶ See 19 CFR 351.212(b)(2).

⁷ See 19 CFR 351.213(d)(3).

According to the CBP import data, the five non-selected companies subject to this review, did not have reviewable entries of subject merchandise during the POR for which liquidation is suspended.⁸ Because there is no evidence on the record of this segment of the proceeding to indicate that these companies had entries, exports, or sales of subject merchandise to the United States during the POR, we are rescinding the administrative review with respect to these companies consistent with 19 CFR 351.213(d)(3).

⁸ These five companies are: Bakir Grup Makine Imalat Bakim Montaj Demontaj Sanayi ve Ticaret Ltd. Sti.; Hydra Insaat Sanayi ve Ticaret Anonim Sirketi; Kalibre Boru Sanayi ve Ticaret; NETBORU San. ve Dis. Tic. Koll. Sti.; and Yilmaz Pipo.

Final Results of the Administrative Review

In accordance with section 777A(e)(1) of the Act and 19 CFR 351.221(b)(5), we determine the following net countervailable subsidy rate for Borusan, for the period January 1, 2018, through December 31, 2018:

Company | Subsidy rate (percent ad valorem)
Borusan Mannesmann Boru Sanayi ve Ticaret A.S., Borusan Istikbal Ticaret, Borusan Lojistik Dag. Deg. Tas Ve, Borusan Mannesmann Boru Yatirim Holding A.Ş., and Borusan Holding A.Ş.⁹ | 0.38 (de minimis)

Assessment Rates

⁹ Commerce has determined that Borusan Mannesmann Boru Sanayi ve Ticaret A.S.; Borusan Istikbal Ticaret.; Borusan Lojistik Dag. Deg. Tas Ve; Borusan Mannesmann Boru Yatirim Holding A.Ş.; and Borusan Holding A.Ş. are cross-owned. See Preliminary Decision Memorandum.

Commerce shall determine, and CBP shall assess, countervailing duties on all appropriate entries covered by this review, pursuant to section 751(a)(2)(C) of the Act and 19 CFR 351.212(b)(2). Because we calculated a de minimis countervailable subsidy rate for Borusan in the final results of this review, we intend to instruct CBP to liquidate the appropriate entries without regard to countervailing duties in accordance with 19 CFR 351.212(b)(2) and 19 CFR 351.106(c)(1).

With respect to the companies for which this administrative review is rescinded (i.e., Bakir Grup Makine Imalat Bakim Montaj Demontaj Sanayi ve Ticaret Ltd. Sti.; Hydra Insaat Sanayi ve Ticaret Anonim Sirketi; Kalibre Boru Sanayi ve Ticaret; NETBORU San. ve Dis. Tic. Koll. Sti.; and Yilmaz Pipo), countervailing duties shall be assessed at rates equal to the cash deposit rate required at the time of entry, or withdrawal from warehouse, for consumption, during the period January 1, 2018, through December 31, 2018, in accordance with 19 CFR 351.212(c)(1)(i).

Commerce intends to issue appropriate assessment instructions to CBP no earlier than 35 days after the date of this publication of the final results of this review in the Federal Register. If a timely summons is filed at the U.S. Court of International Trade, the assessment instructions will direct CBP not to liquidate relevant entries until the time for parties to file a request for a statutory injunction has expired (i.e., within 90 days of publication).

Cash Deposit Requirements

Pursuant to section 751(a)(2)(C) of the Act, Commerce also intends to instruct CBP to collect cash deposits of estimated countervailing duties at the appropriate rates. For shipments of subject merchandise by Borusan entered, or withdrawn from warehouse, for consumption on or after the date of publication of these final results, the cash deposit rate will be zero. For all non-reviewed firms, CBP will continue to collect cash deposits of estimated countervailing duties at the most recent company-specific or all-others rate applicable to the company, as appropriate. These cash deposit requirements, when imposed, shall remain in effect until further notice.

Administrative Protective Order

This notice serves as a reminder to parties subject to administrative protective order (APO) of their responsibility concerning the destruction of proprietary information disclosed under APO in accordance with 19 CFR 351.305(a)(3), which continues to govern business proprietary information in this segment of the proceeding. Timely written notification of return or destruction of APO materials or conversion to judicial protective order is hereby requested. Failure to comply with the regulations and the terms of an APO is sanctionable violation.

Notification to Interested Parties

These final results are issued and published in accordance with sections 751(a)(1) and 777(i) of the Act.

Dated: May 4, 2021.
Christian Marsh,
Acting Assistant Secretary for Enforcement and Compliance.

[FR Doc. 2021-09840 Filed 5-7-21; 8:45 am]

BILLING CODE 3510-DS-P